AGENCY FOR INTERNATIONAL DEVELOPMENT

Notice of Public Information Collections

AGENCY: U.S. Agency for International Development.

ACTION: Notice of public information collections.

SUMMARY: The U.S. Agency for International Development (USAID) seeks Office of Management and Budget (OMB) approval to continue the information collections described below. In accordance with the Paperwork Reduction Act of 1995, USAID requests public comment on these collections from all interested individuals and organizations. The purpose of this notice is to allow 60 days for public comment preceding submission of the collections to OMB. Comments are requested concerning: (a) Whether the collections of information are necessary for the proper performance of the functions of the agency, including whether the information shall have practical utility; (b) the accuracy of the burden estimates; (c) ways to enhance the quality, utility, and clarity of the information collected; and (d) ways to minimize the burden of the collection of information on the respondents, including through the use of automated collection techniques or other forms of information technology.

DATES: Submit comments on or before May 4, 2021.

ADDRESSES: You may submit comments by any of the following methods:

1. Web: Through the Federal eRulemaking Portal at http://www.regulations.gov by following the instructions for submitting comments.

2. Email: policymailbox@usaid.gov.

FOR FURTHER INFORMATION CONTACT: Mr. Francisco Escobar, at (202) 916-2614 or via email at policymailbox@usaid.gov.

SUPPLEMENTARY INFORMATION:

Instructions

All comments must be in writing and submitted through the method(s) specified in the Addresses section above. All submissions must include the information collection title(s). Please include your name, title, organization, postal address telephone number, and email address in the text of the message. Please note that comments submitted in response to this Notice are public record. We recommend that you do not submit detailed personal information, Confidential Business Information, or any information that is otherwise protected from disclosure by statute.

USAID will only address comments that explain why the proposed collection would be inappropriate, ineffective, or unacceptable without a change. Comments that are insubstantial or outside the scope of the notice of request for public comment may not be considered.

Purpose

The U.S. Agency for International Development (USAID) is authorized to make contracts with any corporation, international organization, or other body of persons in or outside of the United States in furtherance of the purposes and within limitations of the Foreign Assistance Act (FAA). The information collection requirements placed on the public are published in 48 CFR chapter 7, and include the following offeror or contractor reporting requirements, identified by the AIDAR section number, as specified in the AIDAR 701.106: 752.219-8, 752.245-70, 752.245-71(c)(2), 752.247-70(c), 752.7001, 752.7002(j), 752.7003, 752.7004 and 752.7032.

The pre-award requirements are based on a need for prudent management in the determination that an offeror either has or can obtain the ability to competently manage development assistance programs using public funds. The requirements for information collection during the post-award period are based on the need to prudently administer public funds.

Overview of Information Collections

(1) Information Collection Elements in the USAID Acquisition Regulation (AIDAR).

(2) Type of Information Collection: Renewal of Information Collection under OMB No: OMB 0412-0520.

(3) Title of the Form: Contractor Employee Biographical Data Sheet corresponding to AIDAR 752.7001.

(4) Agency Form No.: AID 1420-17.

(5) Affected public who will be asked or required to respond: Offerors responding to contract solicitations and contractors.

(6) An estimate of the total number of respondents and the amount of time estimated for an average respondent to respond is: USAID estimates that 4,877 respondents will submit 33,249 submissions per year. The amount of time estimated to complete each response varies by item.

(7) An estimate of the total public burden (in hours) associated with the collections: 43,943.

(8) An estimate of the total public burden (in cost) associated with the collection: $4,054,200. Note that while the burden for these information collections falls on the public, most of the submissions are reimbursable either directly or indirectly under Agency contracts, the cost for most of these collections falls under the federal cost burden. Thus, the estimated total public cost burden not reimbursed through Agency contracts is $57,570.24.

Mark Anthony Walther,
Senior Procurement Executive.

[FR Doc. 2021-04610 Filed 3-4-21; 8:45 am]

BILLING CODE 6116-02-P